FEDERAL COMMUNICATIONS COMMISSION

[DA 00-1383]

Limited Low Power Television/Television Translator/Class A Television Auction Filing Window

AGENCY: Federal Communications Commission.

ACTION: Notice.

SUMMARY: This document announces a limited low power television/television translator/Class A television auction filing window.

DATES: The window filing opportunity begins July 31, 2000, and closes August 4, 2000.

FOR FURTHER INFORMATION CONTACT: Shaun Maher, Video Services Division, Mass Media Bureau at (202) 418-1600.

SUPPLEMENTARY INFORMATION: This is a summary of a Public Notice released June 23, 2000. It does not include attachments. The complete text of the Public Notice, including attachments, is available for public inspection and copying during normal business hours in the FCC Reference Center (Room CY-A257), 445 12th Street, SW., Washington, DC. It may also be purchased from the Commission's copy contractor, International Transcription Services, Inc. (ITS, Inc.), 1231 20th Street, NW., Washington, DC 20035, (202) 857-3800. It is also available on the Commission's web site at http://www.fcc.gov.

The Mass Media Bureau and the Wireless Telecommunications Bureau announce the scheduling of an auction filing window for certain low power television, television translator, and Class A television broadcast stations. Commencing July 31, 2000, and continuing to and including August 4, 2000, the Commission will permit the filing of applications for new construction permits and for major changes in existing facilities for low power television and television translator stations (LPTV). The Commission also will permit in this auction window the filing of applications for major changes in the facilities of authorized Class A television stations; that is, stations for which a Class A TV construction permit or license has been issued. Mutually exclusive proposals will be considered under the Commission's competitive bidding procedures. See 47 CFR 73.5000 et seq.

Federal Communications Commission.
Roy J. Stewart,
Chief, Mass Media Bureau.

[FR Doc. 00-16186 Filed 6-26-00; 8:45 am]

BILLING CODE 6712-01-P